DEPARTMENT OF COMMERCE

International Trade Administration

[A-570-877]

Correction: Notice of Preliminary Determination of Sales at Less Than Fair Value and Postponement of Final Determination: Lawn and Garden Steel Fence Posts from the People's Republic of China

AGENCY: Import Administration, International Trade Administration, Department of Commerce.

EFFECTIVE DATE: December 4, 2002.

SUMMARY: The Department is correcting the scope of the investigation as published in the notice of preliminary determination of sales at less than fair value in Lawn and Garden Steel Fence Posts from the People's Republic of China.

FOR FURTHER INFORMATION CONTACT: Salim Bhabhrawala or Christopher Smith, at (202) 482-1784 or (202) 482-0421, respectively; AD/CVD Enforcement Office V, Group II, Import Administration, International Trade Administration, U.S. Department of Commerce, 14th Street & Constitution Avenue, NW, Washington, DC 20230.

SUPPLEMENTARY INFORMATION:

Background

On December 4, 2002, the Department of Commerce (the Department) issued the preliminary determination for the antidumping duty investigation of Lawn and Garden Steel Fence Posts from the People's Republic of China (PRC) for the period of October 1, 2001, through March 31, 2002. See Notice of Preliminary Determination of Sales at Less Than Fair Value and Postponement of Final Determination: Lawn and Garden Steel Fence Posts from the People's Republic of China (Preliminary Determination), 67 FR 72141 (December 4, 2002). The notice failed to reflect the fact that on June 24, 2002, the U.S. International Trade Commission (ITC) found that there is a reasonable indication that an industry in the United States is materially injured by reason of imports from the PRC of U-shaped or hat-shaped lawn and garden fence posts made of steel and/or any other metal, weighing one pound or less per foot. However, the ITC also ruled that there was not a reasonable indication that an industry in the United States was materially injured or threatened with material injury by reason of imports from the PRC of other fence posts made of steel and/or other metal including “tee”, farm, and sign posts weighing one pound or less per foot. See Lawn and Garden Steel Fence Posts from China, 67 FR 42581 (June 24, 2002). Therefore, the correct scope should exclude all “tee” posts, farm posts, and sign posts, regardless of weight. No other changes have been made to the Preliminary Determination.

The correct scope reads as follows:

Scope of Investigation

For purposes of this investigation, the products covered consist of all “U” shaped or “hat” shaped lawn and garden fence posts made of steel and/or any other metal, weighing 1 pound or less per foot, and produced in the PRC. The fence posts included within the scope of this investigation weigh up to 1 pound per foot and are made of steel and/or any other metal. Imports of these products are classified under the following categories: fence posts, studded with corrugations, knobs, studs, notches or similar protrusions with or without anchor posts and exclude round or square tubing or pipes.

These posts are normally made in two different classes, light and heavy duty. Light duty lawn and garden fence posts are normally made of 14 gauge steel (0.068 inches - 0.082 inches thick), 1.75 inches wide, in 3, 4, 5, or 6 foot lengths. These posts normally weigh approximately 0.45 pounds per foot and are packaged in mini-bundles of 10 posts and master bundles of 400 posts. Heavy duty lawn and garden steel fence posts are normally made of 13 gauge steel (0.082 inches - 0.095 inches thick), 3 inches wide, in 5, 6, 7, and 8 foot lengths. Heavy duty posts normally weigh approximately 0.90 pounds per foot and are packaged in mini-bundles of 5 and master bundles of 200. Both light duty and heavy duty posts are included within the scope of the investigation.

Imports of these products are classified under the Harmonized Tariff Schedule of the United States (HTSUS) subheading 7326.90.85.35. Fence posts classified under subheading 7308.90 are also included within the scope of the investigation if the fence posts are made of steel and/or metal.

Specifically excluded from the scope are other posts made of steel and/or other metal including “tee” posts, farm posts, and sign posts, regardless of weight.¹ Although the HTSUS subheadings are provided for convenience and U.S. Customs Service (Customs) purposes, the written description of the merchandise under investigation is dispositive.

¹ Tee posts are made by rolling red hot steel into a “T” shape. These posts do not have tabs or holes to help secure fencing to them and have primarily farm and industrial uses.

Dated: February 14, 2003.
Bernard Carreau,
Deputy Assistant Secretary for Import Administration.

[FR Doc. 03-4422 Filed 2-24-03; 8:45 am]

BILLING CODE 3510-DS-S